DEPARTMENT OF LABOR

Employment and Training Administration

[TA-W-91,258; TA-W-91,258A; TA-W-91,258B]

Amended Certification Regarding Eligibility To Apply for Worker Adjustment Assistance

International Business Machines (IBM), Global Technology Services (GTS), Including On-Site Leased Workers From Collabera, Apc Workforce Solutions, Artech, CDI, and Infinite, Denver, Colorado;

International Business Machines (IBM), Global Technology Services (GTS), Including On-Site Leased Workers From Collabera, Artech, CDI, and Infinite, Endicott, New York;

International Business Machines (IBM), Global Technology Services (GTS), Including On-Site Leased Workers From Collabera, Artech, CDI, and Infinite, Omaha, Nebraska

In accordance with Section 223 of the Trade Act of 1974, as amended (“Act”), 19 U.S.C. 2273, the Department of Labor issued a Certification of Eligibility to Apply for Worker Adjustment Assistance on February 20, 2016, applicable to workers of International Business Machines (IBM), Global Technology Services (GTS) division, including on-site leased workers from Collabera, APC Workforce Solutions, Artech, CDI, and Infinite, Denver, Colorado (TA-W-91258) (herein known as “IBM—GTS”). The Department's notice of determination was published in the Federal Register on March 24, 2016 (81 FR 15748).

During the investigation, it was revealed that the worker group for TA-W-91,870 and TA-W-91,258 belong to the same subject firm. As a result, the Department reviewed the certification for workers of the subject firm. The workers at the subject firm were engaged in activities related to the supply of information technology services (storage engineering, middleware database, and server administration) for a client's account.

The investigation confirmed that worker separations at International Business Machines (IBM), Global Technology Services (GTS) division, including on-site leased workers from Collabera, Artech, CDI, and Infinite, Endicott, New York (TA-W-91258A) and International Business Machines (IBM), Global Technology Services (GTS) division, including on-site leased workers from Collabera, Artech, CDI, and Infinite, Omaha, Nebraska (TA-W-91258B) were due to an acquisition of services from a foreign country.

The intent of the Department's certification is to include all workers of the subject firm who were adversely affected by the shift in services from a foreign country the supply of services that is like or directly competitive to the services supplied by the workers of the subject firm.

The amended notice applicable to TA-W-91,258, TA-W-91,258A, and TA-W-91,350B is hereby issued as follows:

All workers from International Business Machines (IBM), Global Technology Services (GTS) division, including on-site leased workers from Collabera, APC Workforce Solutions, Artech, CDI, and Infinite, Denver, Colorado (TA-W-91258); International Business Machines (IBM), Global Technology Services (GTS) division, including on-site leased workers from Collabera, Artech, CDI, and Infinite, Endicott, New York (TA-W-91258A); and International Business Machines (IBM), Global Technology Services (GTS) division, including on-site leased workers from Collabera, Artech, CDI, and Infinite, Omaha, Nebraska (TA-W-91258B) who became totally or partially separated from employment on or after December 22, 2014 through February 20, 2018, and all workers in the group threatened with total or partial separation from employment on date of certification through two years from the date of certification, are eligible to apply for adjustment assistance under Chapter 2 of Title II of the Trade Act of 1974, as amended.

Signed in Washington, DC, this 22nd day of August 2016.
Hope D. Kinglock,
Certifying Officer, Office of Trade Adjustment Assistance.

[FR Doc. 2016-23028 Filed 9-23-16; 8:45 am]

BILLING CODE P